POSTAL REGULATORY COMMISSION

Sunshine Act Meetings

TIME AND DATE: Wednesday, December 12, 2012, at 11 a.m.

PLACE: Commission Hearing Room, 901 New York Avenue NW., Suite 200, Washington, DC 20268-0001.

STATUS: Part of this meeting will be open to the public. The rest of the meeting will be closed to the public. The open session will be audiocast. The audiocast may be accessed via the Commission's Web site at http://www.prc.gov. A period for public comment will be offered following consideration of the last numbered item in the open session.

MATTERS TO BE CONSIDERED: The agenda for the Commission's November 7, 2012 meeting includes the items identified below.

PORTIONS OPEN TO THE PUBLIC:

1. Report on legislative activities.

2. Report on communications with the public.

3. Report from the Office of General Counsel on the status of Commission dockets.

4. Report from the Office of Accountability and Compliance.

5. Report from the Office of the Secretary and Administration.

6. Selection of vice chair.

Chairman's Public Comment Period (Opportunity for brief comments or questions from the public, including questions on completed dockets).

PORTION CLOSED TO THE PUBLIC:

7. Discussion of pending litigation.

CONTACT PERSON FOR MORE INFORMATION: Stephen L. Sharfman, General Counsel, Postal Regulatory Commission, 901 New York Avenue NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

By the Commission.
Dated: November 29, 2012.
Ruth Ann Abrams,
Acting Secretary.

[FR Doc. 2012-29286 Filed 11-30-12; 11:15 am]

BILLING CODE 7710-FW-P